DEPARTMENT OF HEALTH AND HUMAN SERVICES

Office of the Secretary

Statement Organization, Functions, and Delegation of Authority

Part A, Office of the Secretary, Statement of Organization, Functions and Delegations of Authority for the Department of Health and Human Services (HHS) is being amended as follows: “Chapter AJ, Office of the Assistant Secretary for Administration and Management,” as last amended at 68 FR 36808-36812, dated June 19, 2003. This reorganization is to show that the Office of Small and Disadvantaged Business Utilization (AJGA), currently within the Office of Acquisition and Management Policy, Office of the Assistant Secretary for Administration and Management, now is responsible only to, and report directly to, the Deputy Secretary of the Department of Health and Human Services. The changes are as follows:

I. Under chapter AJ, Office of the Assistant Secretary for Administration and Management, Office of Acquisition Management and Policy (AJG), delete in its entirety, the “Office of Small and Disadvantaged Business Utilization (AJGA).”

II. Under Chapter AJ, establish the Office of Small and Disadvantaged Business Utilization (AJH):

Section AJH.00 Mission. The Office of Small and Disadvantaged Business Utilization (OSDBU) for the Department of Health and Human Services (HHS) fosters the use of small and disadvantaged business as Federal contractors pursuant to Pub. L. 95-507. Manages the development and implementation of appropriate outreach programs aimed at heightening the awareness of small business community to the contracting opportunities available within HHS. Issues policy and guidance on all small business programs for HHS.

Section AJH.10 Organization. The Office of Small and Disadvantaged Business Utilization (OSDBU) is responsible to and reports directly to the Deputy Secretary, who reports to the Secretary. The OSDBU is headed by a Director, who is responsible only to, and report directly to, the Deputy Secretary.

Section AJH.20 Functions. A. The Office of Small and Disadvantaged Business Utilization (OSDBU) provides leadership, policy, guidance and supervision, as well as coordinating short and long range strategic planning for the Secretary and the Deputy Secretary to aid small business vendors in doing business with the Department.

B. Has responsibility within the Department for policy, plans, and oversight to execute the functions the functions under Section 8 & 15 of the Small Business Act.

C. Provides leadership to the development and assessment of the Department's programs and policies to develop and consolidate a unified small business voice in support of the “One Department” initiative.

D. Supports the acquisition and program offices of HHS to ensure compliance with the Small Business Act, the Federal Acquisition Regulations (FAR) and the HHS Acquisition Regulations (HHSAR).

E. Prepares documentation and reports to the Executive Office of the President, the Congress, Office of Management and Budget, the Small Business Administration, and other agencies as required.

F. Provides input for coordinated Department positions on proposed legislation and Government regulations on matters affecting cognizant socioeconomic programs and maintains liaison with Congress through established Department channels.

G. Oversees and monitors the Departmental review and screening of planned procurement by programs and procurement offices to ensure that preference programs are given through consideration throughout the decision making process.

I. Builds strong relationships with internal, as well as, external customers and partners of HHS.

Dated: May 18, 2005.
Evelyn White,
Acting, Assistant Secretary for Administration and Management.

[FR Doc. 05-10571 Filed 5-25-05; 8:45 am]

BILLING CODE 4150-04-M